NUCLEAR REGULATORY COMMISSION

[Docket No. 40-8903]

Notice of Receipt of License Amendment Request From the Homestake Mining Company To Request an Extension of Reclamation Milestones for Its Grants, New Mexico Facility, and Opportunity To Request a Hearing

AGENCY: Nuclear Regulatory Commission.

ACTION: Notice of consideration of license and opportunity to request a hearing.

DATES: A request for a hearing must be filed within 30 days of the publication of this Federal Register notice.

FOR FURTHER INFORMATION CONTACT: William von Till, Fuel Cycle Facilities Branch, Division of Fuel Cycle Safety and Safeguards, Office of Nuclear Material Safety and Safeguards, U.S. Nuclear Regulatory Commission, Washington, DC 20555-0001. Telephone: (301) 415-6251; Fax: (301) 415-5955; and/or by email: rwv@nrc.gov.

SUPPLEMENTARY INFORMATION:

I. Introduction

The U. S. Nuclear Regulatory Commission (NRC) has received, by letters dated October 28, 2003 (ML033030501), and October 29, 2003 (ML033040196), a request from Homestake Mining Company (HMC) for approval of a license amendment to Materials License SUA-1471 to extend its reclamation milestones.

The Homestake facility is an inactive uranium recovery fuel cycle facility that is undergoing surface reclamation and groundwater remediation. Milestones for reclamation are outlined in the Homestake Source Material License SUA-1471 in condition 36A and B. Surface reclamation milestones are dependent on groundwater remediation at the site. Homestake proposes to extend the milestones due to active groundwater remediation activities. Groundwater remediation at the site is under the oversight of the NRC per Source Material License SUA-1471 (10 CFR part 40) and the U.S. Environmental Protection Agency (EPA) under the Comprehensive Environmental Response Compensation and Liability Act of 1980, as amended (CERCLA). A Memorandum of Understanding dated December 14, 1993, outlines the NRC and EPA roles in the clean-up of groundwater at the site. Surface reclamation activities are under the oversight of the NRC. HMC proposes to extend the reclamation milestones for the large tailings pile (LTP) and small tailings pile (STP) as follows:

LTP—Final radon barrier placement—top of pile from December 31, 2003, to December 31, 2012.

LTP—Erosion protection layer placement—top of pile from September 30, 2004, to September 30, 2013.

STP—Final radon barrier placement from December 31, 2012, to September 30, 2013.

STP—Erosion protection layer placement from September 30, 2013, to December 31, 2013.

Corrective Action Plan completion from May 1, 2010, to December 31, 2011.

The NRC staff will review HMC's request to extend reclamation milestones with 10 CFR part 40, using NUREG-1620 Rev. 1, “Standard Review Plan for the Review of a Reclamation Plan for Mill Tailings Sites Under Title II of the Uranium Mill Tailings Radiation Control Act of 1978” and other applicable agency regulations and guidance. If the NRC approves HMC's request, the approval will be documented in an amendment to HMC's license. The NRC staff will consult with the EPA since the proposed milestones included groundwater corrective action completion.

II. Opportunity To Request a Hearing

The NRC hereby provides notice that this is a proceeding on an application for an amendment of a license falling within the scope of subpart L, “Informal Hearing Procedures for Adjudications in Materials and Operator Licensing Proceedings' of the NRC's rules and practice for domestic licensing proceedings in 10 CFR part 2. Pursuant to § 2.1205(a), any person whose interest may be affected by this proceeding may file a request for a hearing in accordance with § 2.1205(d). A request for a hearing must be filed within 30 days of the publication of this Federal Register notice.

The request for a hearing must be filed with the Office of the Secretary, either:

(1) By delivery to the Rulemaking and Adjudications Staff of the Office of the Secretary of the Commission at One White Flint North, 11555 Rockville Pike, Rockville, MD 20852, between 7:45 a.m. and 4:15 p.m., Federal workdays; or

(2) By mail or telegram addressed to the Secretary, U.S. Nuclear Regulatory Commission, Washington, DC 20555, Attention: Rulemaking and Adjudications Staff. Because of continuing disruptions in the delivery of mail to United States Government offices, it is requested that requests for hearing also be transmitted to the Secretary of the Commission, either by means of facsimile transmission to (301) 415-1101, or by email to hearingdocket@nrc.gov.

In accordance with 10 CFR 2.1205(f), each request for a hearing must also be served, by delivering it personally or by mail, to:

(1) The applicant, Homestake Mining Company, 6719-D Academey Road, NE., Albuquerque, New Mexico 87109, Attention: Mr. Alan D. Cox; and

(2) The NRC staff, by delivery to the Office of the General Counsel, One White Flint North, 11555 Rockville Pike, Rockville, MD 20852, between 7:45 a.m. and 4:15 p.m., Federal workdays, or by mail addressed to the Office of the General Counsel, U.S. Nuclear Regulatory Commission, Washington, DC 20555. Because of continuing disruptions in the delivery of mail to United States government offices, it is requested that requests for hearing also be transmitted to the Office of the General Counsel, either by means of facsimile transmission to (301) 415-3725, or by email to OGCMailCenter@nrc.gov.

In addition to meeting other applicable requirements of 10 CFR part 2 of the NRC's regulations, a request for a hearing filed by a person other than an applicant must describe in detail:

(1) The interest of the requestor;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

III. Further Information

In accordance with 10 CFR 2.790 of the NRC's “Rules of Practice,” details with respect to this action, including the application for amendment and supporting documentation, are available electronically for public inspection and copying from the Publicly Available Records (PARS) component of NRC's document system (ADAMS). ADAMS is accessible from the NRC Web site at http://www.nrc.gov/reading-rm/adams.html.

Dated in Rockville, Maryland, this 12th day of December, 2003.
For the Nuclear Regulatory Commission.
William von Till,
Project Manager, Fuel Cycle Facilities Branch, Division of Fuel Cycle Safety and Safeguards, Office of Nuclear Material Safety and Safeguards.

[FR Doc. 03-31426 Filed 12-19-03; 8:45 am]

BILLING CODE 7590-01-P